DEPARTMENT OF THE INTERIOR

National Park Service

[NPS-WASO-NRNHL-37618; PPWOCRADP2, PCU00RP14.R50000]

National Historic Landmarks Committee of the National Park System Advisory Board Meeting

AGENCY: National Park Service.

ACTION: Meeting notice.

SUMMARY: Notice is hereby given in accordance with the Federal Advisory Committee Act that a meeting of the National Historic Landmarks Committee (Committee) of the National Park System Advisory Board (Board) will meet as indicated below.

DATES: The meeting will be held on Tuesday, May 14 and Wednesday, May 15, 2024, from 10 a.m. to 4 p.m. (EASTERN).

ADDRESSES: The meeting will be held virtually at the date and time noted above and instructions and access information will be provided online at https://www.nps.gov/subjects/nationalhistoriclandmarks/nhl-committee-meetings.htm. Please check the program website at https://www.nps.gov/subjects/nationalhistoriclandmarks/index.htm for the most current meeting information.

FOR FURTHER INFORMATION CONTACT: Dr. Lisa Davidson, Program Manager, National Historic Landmarks Program, National Park Service, 1849 C Street NW, Mail Stop 7228, Washington, DC 20240, or email Lisa_Davidson@nps.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The purpose of the meeting of the Committee is to evaluate nominations of historic properties in order to advise the Board of the qualifications of each property being proposed for National Historic Landmark designation, and to make recommendations regarding the possible designation of those properties as National Historic Landmarks to the Board at a future meeting. The Committee also makes recommendations to the Board regarding amendments to existing designations and proposals for withdrawal of designation. The members of the Committee are:

Dr. Lindsay Robertson, Chair

Dr. David G. Anderson

Dr. Ethan Carr

Dr. Julio Cesar Capó

Dr. Cynthia G. Falk

Dr. Victor Galen

Dr. Richard Longstreth

Dr. Alexandra M. Lord

Dr. Vergil E. Noble

Mr. Adam Smith

Dr. Sharita Jacobs Thompson

Dr. Carroll Van West

Dr. Richard Guy Wilson

Meeting Accessibility/Special Accommodations: Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

The meeting will be open to the public. Pursuant to 36 CFR part 65, any member of the public may file, for consideration by the Committee, written comments concerning the National Historic Landmark nominations, amendments to existing designations, or proposals for withdrawal of designation. Comments should be submitted to Sherry A. Frear, Chief, National Register of Historic Places and National Historic Landmarks Program, National Park Service, 1849 C Street NW, Mail Stop 7228, Washington, DC 20240, or email nhl_info@nps.gov. All comments received will be provided to the Committee and the Board.

Purpose of the Meeting: The Board and its Committee may consider the following nominations:

California

TOR HOUSE (ROBINSON JEFFERS HOME), Carmel-by-the-Sea, CA

SUMMIT CAMP, Placer and Nevada Cos., CA

Colorado

BOULDER COUNTY COURTHOUSE, Boulder, CO

District of Columbia

LUCY DIGGS SLOWE AND MARY BURRILL HOUSE, Washington, DC

District of Guam

MANENGGON CONCENTRATION CAMP, Yona, GU

Louisiana

MR. CHARLIE OFFSHORE OILRIG, Morgan City, LA

New York

WINGED FOOT GOLF COURSE, Mamaroneck, NY

North Carolina

F.W. WOOLWORTH CO. BUILDING, Greensboro, NC

North Carolina and Virginia

BLUE RIDGE PARKWAY, multiple, NC and VA

Virginia

LOUDOUN COUNTY COURTHOUSE, Leesburg, VA

AZUREST SOUTH, Petersburg, VA

Proposed Amendments to Existing Designations:

Maryland

MONOCACY BATTLEFIELD (Updated Documentation), Frederick, MD

Virginia

FORT MONROE (Updated Documentation), Hampton, VA

Washington

FORT WORDEN (Updated Documentation), Port Townsend, WA

Proposed Withdrawal of Existing Designations:

Hawai'i

FALLS OF CLYDE (FOUR-MASTED OIL TANKER), Honolulu, HI

Public Disclosure of Comments: Before including your address, phone number, email address, or other personal identifying information in your comment, you should be aware that your entire comment—including your personal identifying information—may be made publicly available at any time. While you can ask us in your comment to withhold your personal identifying information from public review, we cannot guarantee that we will be able to do so.

(Authority: 36 CFR 65.5)

Alma Ripps,
Chief, Office of Policy.

[FR Doc. 2024-06966 Filed 4-1-24; 8:45 am]

BILLING CODE 4312-52-P